DEPARTMENT OF LABOR

Employment and Training Administration

[TA-W-52,595]

ACS Industries, Inc., Woonsocket, RI; Notice of Termination of Investigation

Pursuant to section 221 of the Trade Act of 1974, as amended, an investigation was initiated on August 18, 2003 in response to a worker petition filed by a company official on behalf of workers at ACS Industries, Inc., Woonsocket, Rhode Island.

The petitioner has requested that the petition be withdrawn. Consequently, the investigation has been terminated.

Signed at Washington, DC this 22nd day of August, 2003.
Elliott S. Kushner,
Certifying Officer, Division of Trade Adjustment Assistance.

[FR Doc. 03-24693 Filed 9-29-03; 8:45 am]

BILLING CODE 4510-30-P